DEPARTMENT OF HEALTH AND HUMAN SERVICES

Centers for Disease Control and Prevention

Ethics Subcommittee, Advisory Committee to the Director, Centers for Disease Control and Prevention (CDC); Meeting

In accordance with section 10(a)(2) of the Federal Advisory Committee Act (Pub. L. 92-463), the Centers for Disease Control and Prevention announces the following Subcommittee meeting.

Name: Ethics Subcommittee, Advisory Committee to the Director (ACD), CDC.

Times and Dates:

1 p.m.-5 p.m., February 25, 2009.

8:30 a.m.-3 p.m., February 26, 2009.

Place: Centers for Disease Control and Prevention, Tom Harkin Global Communications Center, 1600 Clifton Road, Atlanta, GA 30333.

Status: Open to the public, limited only by the space available. The meeting room accommodates approximately 60 people. To accommodate public participation in the meeting, a conference telephone line will be available. The public is welcome to participate during the public comment periods by calling (866) 919-3560 and entering code 4168828. The public comment periods are tentatively scheduled for 4:30 p.m.-4:45 p.m. on February 25, 2009 and from 2:30 p.m.-2:45 p.m. on February 26, 2009.

Purpose: The Ethics Subcommittee will provide counsel to the ACD, CDC, regarding a broad range of public health ethics questions and issues arising from programs, scientists and practitioners.

Matters To Be Discussed: The agenda will include the following topics: CDC's Healthiest Nation Initiative, ethical guidance for ventilator distribution, ethical guidance for use of travel restrictions, and follow-up on outstanding activities/reports. Agenda items are subject to change as priorities dictate.

Contact Person for More Information: For security reasons, members of the public interested in attending the meeting should contact Drue Barrett, PhD, Designated Federal Official, Ethics Subcommittee, CDC, 1600 Clifton Road, NE., M/S D-50, Atlanta, Georgia 30333. Telephone (404) 639-4690. E-mail: dbarrett@cdc.gov. The deadline for notification of attendance is February 18, 2009.

The Director, Management Analysis and Services Office, has been delegated the authority to sign Federal Register notices pertaining to announcements of meetings and other committee management activities, for both the Centers for Disease Control and Prevention and the Agency for Toxic Substances and Disease Registry.

Dated: January 29, 2009.
Elaine L. Baker,
Director, Management Analysis and Services Office, Centers for Disease Control and Prevention.

FR Doc. E9-2452 Filed 2-4-09; 8:45 am]

BILLING CODE 4163-18-P